DEPARTMENT OF THE INTERIOR

Bureau of Land Management

[ID074-04-1430-EU 252R, IDI-34375/IDI-33756]

Notice of Intent To Prepare a Land Use Plan Amendment To Provide for a Proposed Direct Land Sale

AGENCY: Bureau of Land Management, Interior.

ACTION: Notice of Intent.

SUMMARY: Pursuant to 43 CFR part 1600, the Bureau of Land Management (BLM) Idaho Falls Field Office (IFFO) proposes to amend the Medicine Lodge Resource Management Plan (RMP) to identify a 5.81 acre parcel of public land for disposal in Jefferson County, Idaho. Additionally, the IFFO proposes to patent the parcel to Byron and Teresa Blakely, reserving a conservation easement to the United States.

DATES: Comments regarding the proposed plan amendment must be received by September 10, 2004.

ADDRESSES: Written comments should be sent to Carol McCoy Brown, Field Manager, Idaho Falls Field Office, 1405 Hollipark Drive, Idaho Falls, Idaho 83401.

FOR FURTHER INFORMATION CONTACT: Karen Rice, Wildlife Biologist, or Skip Staffel, Realty Specialist, at the above address or by calling (208) 524-7500.

SUPPLEMENTARY INFORMATION: The following described public land in Jefferson County, Idaho, will be examined for possible disposal by direct sale under sections 203 and 209 of the Federal Land Policy and Management Act of 1976, 43 U.S.C. 1713 and 1719:

Boise Meridian, Idaho

T. 4 N., R. 40 E.,

Sec. 25, Lot 18.

The land described above contains approximately 5.81 acres.

Upon publication of this notice in the Federal Register, the land described above will be segregated from appropriation under the public land laws, including the mining laws, except for the sale provisions of FLPMA.

An environmental assessment will be completed for this action. If the land is found suitable for disposal, the United States would offer it for direct sale to Byron and Teresa Blakely at fair market value, with a conservation easement retained by the BLM. This action would resolve litigation entitled United States v. Byron Blakely and Teresa Blakely (Civ. 99-339-E-BLW) over disputed ownership of lands. The public is invited to provide scoping comments on the issues that should be addressed in the plan amendment and environmental assessment. The following resources will be considered in preparation of the plan amendment: Lands, wildlife and migratory birds, recreation, wilderness, range, minerals, cultural resources, watershed/soils, threatened/endangered species, and hazardous materials. Staff specialists representing these resources will make up the planning team. Planning issues will include the same planning criteria originally considered for the Medicine Lodge RMP; however, issues for this amendment are expected to primarily involve the adjustment of land tenure. No public meetings are scheduled.

Current land use planning information is available at the Idaho Falls BLM office. Office hours are 7:45 a.m. to 4:30 p.m., Monday through Friday except holidays.

Dated: July 1, 2004.
Glen Guenther,
Acting Field Manager, Idaho Falls Field Office.

[FR Doc. 04-17093 Filed 7-26-04; 8:45 am]

BILLING CODE 4310-GG-P